DEPARTMENT OF THE TREASURY

Office of Thrift Supervision

'34 Disclosures

AGENCY: Office of Thrift Supervision (OTS), Treasury.

ACTION: Notice and request for comment.

SUMMARY: The proposed information collection request (ICR) described below has been submitted to the Office of Management and Budget (OMB) for review and approval, as required by the Paperwork Reduction Act of 1995. OTS is soliciting public comments on the proposal.

DATES: Submit written comments on or before June 10, 2010. A copy of this ICR, with applicable supporting documentation, can be obtained from RegInfo.gov at http://www.reginfo.gov/public/do/PRAMain.

FOR FURTHER INFORMATION CONTACT: For further information or to obtain a copy of the submission to OMB, please contact Ira L. Mills at, ira.mills@ots.treas.gov (202) 906-6531, or facsimile number (202) 906-6518, Regulations and Legislation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: '34 Disclosures.

OMB Number: 1550-0019.

Form Number: Forms 8A, 8K, 10, 10K, 12b-25, 25, 10-Q, 4, 3, 5, 15, Schedules 14A, 14C, TO, 13D, 13G, 13E-3, G-FIN, G-FINW, G-FIN-4, G-FIN-5, and Annual Report.

Regulation Requirement: 12 CFR 563d.

Description: OTS collects certain periodic information on forms adopted by the U.S. Securities and Exchange Commission (SEC), pursuant to the Securities Exchange Act of 1934 (the Exchange Act). The information is collected annually, quarterly, and at other times as required by certain events. The forms are required to be filed with OTS by certain publicly held savings associations and related persons, pursuant to section 12(i) of the Exchange Act. OTS administers the reporting requirements and forms of the SEC for such persons. This provision applies to approximately 6 Federal stock institutions registered with OTS.

In addition, 12 CFR 552.10 requires that Federal stock associations not wholly owned by a holding company mail, within 90 days after the end of its fiscal year, an Annual Report to each of its stockholders entitled to vote at its annual meeting. The Annual Report shall contain financial statements identical to those required by the Exchange Act and Rule 14a-3 (17 CFR 240.14a-3 thereunder). This provision applies to approximately 26 Federal stock institutions chartered by OTS. Each affected association must send OTS a copy of its Annual Report, properly certified.

Type of Review: Extension of a currently approved collection.

Affected Public: Business or other for-profit; Individuals or households; Not-for-profit institutions; Farms; Federal Government; State, Local or Tribal Government.

Estimated Number of Respondents: 95.

Estimated Burden Hours Per Response: The response time for forms and schedules could range from 12 minutes to 141 hours and the Annual Report is estimated at 1,576 hours.

Estimated Frequency of Response: On occasion; Quarterly; Annually.

Estimated Total Burden: 26,183 hours.

Clearance Officer: Ira L. Mills, (202) 906-6531, Office of Thrift Supervision, 1700 G Street, NW., Washington, DC 20552.

Dated: May 6, 2010.
Ira L. Mills,
Paperwork Clearance Officer, Office of Chief Counsel, Office of Thrift Supervision.

[FR Doc. 2010-11172 Filed 5-10-10; 8:45 am]

BILLING CODE 6720-01-P